FEDERAL TRADE COMMISSION

16 CFR Part 423

RIN 3084-AB28

Care Labeling Rule

AGENCY: Federal Trade Commission.

ACTION: Final determination; termination of rulemaking.

SUMMARY: As part of its ongoing, systematic review of all Federal Trade Commission rules and guides, the Commission terminates the Care Labeling Rule review.

DATES: The Care Labeling Rule review and rulemaking (consisting of an ANPRM: July 13, 2011, published at 76 FR 41148 (July 13, 2011), NPRM published at 77 FR 58338 (Sept. 20, 2012), and SNPRM published at 85 FR 44485 (July 23, 2020)) is terminated as of December 8, 2023.

FOR FURTHER INFORMATION CONTACT: For information about this document, please contact Jock Chung (202-326-2984), Federal Trade Commission, Bureau of Consumer Protection, Division of Enforcement, 600 Pennsylvania Ave. NW, Washington, DC 20580.

SUPPLEMENTARY INFORMATION: To ensure its rules and industry guides remain relevant and are not unduly burdensome, the Commission reviews each on a ten-year schedule. Every year the Commission publishes its review schedule, with adjustments made in response to public input, changes in the marketplace, and resource demands.

When the Commission reviews a rule or guide, it publishes a document in the Federal Register seeking public comment on the continuing need for the rule or guide, as well as the rule's or guide's costs and benefits to consumers and businesses. Based on this feedback, the Commission may modify or repeal the rule or guide to address public concerns, changed conditions, or to reduce undue regulatory burden.

The Commission posts information about its review schedule on its website ¹ to facilitate comment. This website contains an updated review schedule, a list of rules and guides previously eliminated in the regulatory review process, and the Commission's regulatory review plan.

¹ https://www.ftc.gov/enforcement/rulemaking/retrospective-review-ftc-rules-guides.

The Commission now terminates its review of the Care Labeling Rule, 16 CFR part 423, which has been inactive since 2021. The Commission started this review on July 13, 2011, by publishing an advance notice of proposed rulemaking (“ANPR”) seeking comment on the economic impact of, and the continuing need for, the Rule; the benefits of the Rule to consumers; and any burdens it places on businesses.² The Commission also sought comment on proposed amendments.³

² 76 FR 41148 (July 13, 2011) (https://www.ftc.gov/sites/default/files/documents/federal_register_notices/16-cfr-part-423-care-labeling-textile-wearing-apparel-and-certain-piece-goods-amended-advance-notice/110707carelabelfrn.pdf).

³ The Commission solicited comment on whether it should modify the Rule's provision permitting the use of care symbols, and whether it should amend the Rule to address the disclosure of care instructions in languages other than English and the practice of professional wetcleaning. Id.

In response to comments to the ANPR, the Commission published a notice of proposed rulemaking (“NPRM”) ⁴ in 2012, in which it proposed amending the Rule to: (1) permit manufacturers and importers to provide a care instruction for professional wetcleaning on labels if the garment can be professionally wetcleaned; (2) permit manufacturers and importers to use the symbol system set forth in either ASTM Standard D5489-07, “Standard Guide for Care Symbols for Care Instructions on Textile Products,” or ISO 3758:2005(E), “Textiles—Care labelling code using symbols”; (3) clarify what constitutes a reasonable basis for care instructions; and (4) update the definition of “dryclean” to reflect then-current practices and technology.⁵

⁴ 77 FR 58338 (Sept. 20, 2012) (https://www.ftc.gov/sites/default/files/documents/federal_register_notices/trade-regulation-rule-care-labeling-textile-wearing-apparel-and-certain-piece-goods-notice-proposed/120911carelabelingfrn.pdf).

⁵ Id.

After analyzing the substantial record, including comments to the NPRM, in 2020, the Commission published a supplemental notice of proposed rulemaking (“SNPRM”) ⁶ proposing to repeal the Rule. Specifically, the Commission stated that the record suggests the Rule may not be necessary to ensure manufacturers provide care instructions, may have failed to keep up with a dynamic marketplace, and may negatively affect the development of new technologies and disclosures.⁷

⁶ 85 FR 44485 (July 23, 2020) (https://www.regulations.gov/document/FTC-2020-0058-0001).

⁷ https://www.regulations.gov/document/FTC-2020-0058-0001.

The Commission, however, received little support for repealing the Rule.⁸ Many commenters argued that if the Commission were to repeal the Rule, cost savings would motivate manufacturers to avoid providing care instructions. Additionally, numerous cleaners commented that care instructions were critical to enable cleaners to avoid damaging customers' garments. Therefore, on July 21, 2021, the Commission published a statement that it determined not to finalize the proposed repeal.⁹ The Commission now terminates its review of that Rule.

⁸ Comments at https://www.regulations.gov/document/FTC-2020-0058-0001/comment.

⁹ https://www.ftc.gov/system/files/documents/public_statements/1592326/r511915carelabelingrepealstatement.pdf.

Authority: 15 U.S.C. 41 through 58.

By direction of the Commission.
Joel Christie,
Acting Secretary.

[FR Doc. 2023-26966 Filed 12-7-23; 8:45 am]

BILLING CODE 6750-01-P